DEPARTMENT OF COMMERCE

National Oceanic and Atmospheric Administration

[I.D. 122303L]

Marine Mammals; File No. 642-1536

AGENCY: National Marine Fisheries Service (NMFS), National Oceanic and Atmospheric Administration (NOAA), Commerce.

ACTION: Receipt of application for amendment.

SUMMARY: Notice is hereby given that Joseph R. Mobley, Jr., Ph.D., Professor Psychology, University of Hawaii-West Oahu, 96-129 Ala Ike, Pearl City, Hawaii 96782 (Principal Investigator: Dr. Joe Mobley), has requested an amendment to scientific research Permit No. 642-1536-00.

DATES: Written or telefaxed comments must be received on or before February 5, 2004.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Protected Species Coordinator, Pacific Islands Region Office, NMFS, 1601 Kapiolani Blvd., Rm, 1110, Honolulu, HI 96814-4700; phone (808)973-2935; fax (808)973-2941.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Jill Lewandowski, (301)713-2289.

SUPPLEMENTARY INFORMATION: The subject amendment to Permit No. 642-1536-00, issued on March 15, 2000 (65 FR 13949) is requested under the authority of the Marine Mammal Protection Act of 1972, as amended (MMPA- 16 U.S.C. 1361 et seq.), the Regulations Governing the Taking and Importing of Marine Mammals (50 CFR part 216), the Endangered Species Act of 1973, as amended (ESA- 16 U.S.C. 1531 et seq.), and the regulations governing the taking, importing, and exporting of endangered and threatened species (50 CFR 222-226).

Permit No. 642-1536-00 authorizes the permit holder to conduct aerial and vessel-based research, including surface and underwater photography/videography for fluke identification and sex verification, on North Pacific humpback whales (Megaptera novaeangliae) and several other species of cetaceans in Hawaii waters. The permit holder now requests authorization to add biopsy sampling and suction cup/implantable bioacoustic tagging of various marine mammal species resident to Hawaii, including humpback whales, fin whales (Balaenoptera physalus), sei whales (Balaenoptera borealis), Bryde's whales (Balaenoptera edeni), killer whales (Orcinus orca), short-finned pilot whales (Globicephala macrorhynchus), melon-headed whales (Peponocephala electra), false killer whales (Pseudorca crassidens), spinner dolphins (Stenella longirostris), spotted dolphins (Stenella attenuata), striped dolphins (Stenella coeruleoalba), Risso's dolphins (Grampus griseus), rough-toothed dolphins (Steno bredanensis), bottlenose dolphins (Tursiops truncatus), sperm whales (Physeter macrocephalus), pygmy sperm whales (Kogia breviceps), dwarf sperm whales (Kogia simus), Baird's beaked whale (Berardius bairdii), Cuvier's beaked whales (Ziphius cavirostris), and Blainville's beaked whales (Mesoplodon densirostris). Specifically, the permit holder is requesting 40 tagging takes and 80 biopsy takes for humpback whales, 5 tagging takes and 10 biopsy takes for fin, sei, Bryde's, and killer whales, and 20 tagging takes and 40 biopsy takes for all other requested species. Biopsy sampling is requested to further study the population structure of the above species. Bioacoustic tagging is requested to record and quantify the various acoustic stimuli in the animals' environment, with a primary objective of tagging singing humpback whale males to further understand song structure and duration. The proposed research is requested for the duration of the current permit which expires on May 31, 2005. All research will take place in Hawaiian waters.

NOAA environmental review procedures provide that scientific research permits are generally categorically excluded from the National Environmental Policy Act of 1969 (NEPA; 42 U.S.C. 4321 et seq.) requirements to prepare an environmental assessment (EA) or environmental impact statement. However, given that portions of the research are directed at species listed as threatened or endangered under the ESA, NMFS is currently preparing an EA to determine if the proposed activities are likely to result in any significant impacts to social, economic, biological or physical environment resources.

Concurrent with the publication of this notice in the Federal Register, NMFS is forwarding copies of this application to the Marine Mammal Commission and its Committee of Scientific Advisors.

Dated: December 30, 2003.
Tammy C. Adams,
Acting Chief, Permits, Conservation and Education Division, Office of Protected Resources, National Marine Fisheries Service.

[FR Doc. 04-232 Filed 1-5-04; 8:45 am]

BILLING CODE 3510-22-S